ENVIRONMENTAL PROTECTION AGENCY

[OPPTS-140292; FRL-6807-6]

Access to Confidential Business Information by Syracuse Research Corporation (SRC)

AGENCY: Environmental Protection Agency (EPA).

ACTION: Notice.

SUMMARY: EPA has authorized Syracuse Research Corporation (SRC) of Arlington, VA access to information which has been submitted to EPA under sections 4, 5, 6, and 8 of the Toxic Substances Control Act (TSCA). Some of the information may be claimed or determined to be confidential business information (CBI). ÿ7E

DATES: ÿ7EAccess to the confidential data submitted to EPA under sections 4, 5, 6, and 8 of TSCA occurred as a result of an approved waiver dated September 24, 2001, which requested granting SRC immediate access to sections 4, 5, 6, and 8 of TSCA CBI. ÿ7E

FOR FURTHER INFORMATION CONTACT: ÿ7EBarbara A. Cunningham, Acting Director, Environmental Assistance Division (7408), Office of Pollution Prevention and Toxics, Environmental Protection Agency, 1200 Pennsylvania Ave., NW., Washington, DC 20460; telephone number: (202) 554-1404; e-mail address: TSCA-Hotline@epamail.epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the person listed under FOR FURTHER INFORMATION CONTACT.

II. How Can I Get Additional Information, Including Copies of this Document or Other Related Documents?

You may obtain electronic copies of this document, and certain other related documents that might be available electronically, from the EPA Internet homepage at http://www.epa.gov/. To access this document, on the homepage select “Laws and Regulations,” “Regulations and Proposed Rules,” and then look up the entry for this document under the “Federal Register—Environmental Documents.” You can also go directly to the Federal Register listings at http://www.epa.gov/fedrgstr/.

III. What Action is the Agency Taking?

Under contract number 68-W-01-061, SRC of 1215 Jefferson Davis Highway, Suite 405, Arlington, VA, will assist the Office of Pollution Prevention and Toxics (OPPTS) in preparing chemical reviews for the TSCA New Chemicals Review Program. This includes preparing documents to be used for Chemical Review Search Strategy and Structure Activity Team meetings. The contractor requires access to current and past cases to fulfill these duties.

In accordance with 40 CFR 2.306(j), EPA has determined that under EPA contract number 68-W-01-061, SRC will require access to CBI submitted to EPA under sections 4, 5, 6, and 8 of TSCA, to perform successfully the duties specified under the contract.

SRC personnel was given access to information submitted to EPA under sections 4, 5, 6, and 8 of TSCA. Some of the information may be claimed or determined to be CBI.

Access to the confidential data submitted to EPA under sections 4, 5, 6, and 8 of TSCA occurred as a result of an approved waiver dated September 24, 2001, which requested granting SRC immediate access to sections 4, 5, 6, and 8 of TSCA CBI. This waiver was necessary to allow SRC to assist EPA in preparing chemical reviews for the TSCA New Chemicals Review Program.

EPA is issuing this notice to inform all submitters of information under sections 4, 5, 6,and 8 of TSCA, that the Agency may provide SRC access to these CBI materials on a need-to-know basis only. All access to TSCA CBI under this contract will take place at EPA Headquarters and at the SRC site located at 1215 Jefferson Davis Highway, Suite 405, Arlington, VA.

SRC will be required to adhere to all provisions of EPA's TSCA Confidential Business Information Security Manual.

Clearance for access to TSCA CBI under this contract may continue until September 30, 2006.

SRC personnel will be required to sign nondisclosure agreements and will be briefed on appropriate security procedures before they are permitted access to TSCA CBI.

List of Subjects

Environmental protection, Confidential business information.

Dated: October 12, 2001.
Allan S. Abramson,
Director, Information Management Division, Office of Pollution Prevention and Toxics.

[FR Doc. 01-26687 Filed 10-23-01; 8:45 am]

BILLING CODE 6560-50-S